DEPARTMENT OF LABOR

Employment and Training Administration

[TA-W-40,188 and NAFTA-05386]

GFC Foam, LLC, West Hazelton, PA; Notice of Negative Determination on Reconsideration

On June 17, 2002, the Department issued an Affirmative Determination Regarding Application for Reconsideration for the workers and former workers of the subject firm. The notice will soon be published in the Federal Register.

The Department initially denied TAA to workers of GFC Foam, LLC, West Hazelton, Pennsylvania because criterion (3) was not met. The “contributed importantly” group eligibility requirement of section 222(3) of the Trade Act of 1974, as amended, was not met. Imports did not contribute importantly to the worker separations.

The Department denied NAFTA-TAA because criteria (3) and (4) have not been met. Imports from Canada or Mexico did not contribute importantly to workers' separations. There was no shift in production from the subject firm to Canada or Mexico during the relevant period.

The workers at the subject firm were engaged in employment related to the production of polyurethane foam.

The petitioner believes customers were importing polyurethane foam and therefore requested that the Department of Labor survey customers of the subject firm.

On review of the request for reconsideration the Department of Labor determined that a survey of major customers should be conducted for the relevant period.

On reconsideration, the Department contacted the company for a list of major declining customers of the subject firm. The company supplied a list of major customers of the subject firm.

The U.S. Department of Labor conducted a survey of the major customers of the subject firm regarding their purchases of polyurethane foam during 1999, 2000 and January through September 2001. The survey revealed that none of the customers reported importing polyurethane foam from Canada or Mexico or from any other foreign source during the relevant period.

Conclusion

After reconsideration, I affirm the original notices of negative determination regarding eligibility to apply for worker adjustment assistance and NAFTA-Transitional Adjustment Assistance for workers and former workers of GFC Foam, LLC, West Hazelton, Pennsylvania.

Signed at Washington, DC, this 4th day of September 2002.
Edward A. Tomchick,
Director, Division of Trade Adjustment Assistance.

[FR Doc. 02-24504 Filed 9-26-02; 8:45 am]

BILLING CODE 4510-30-P